DEPARTMENT OF COMMERCE

National Oceanic and Atmospheric Administration

50 CFR Part 660

[I.D. 020200B]

Western Pacific Fishery Management Council; Public Meeting

AGENCY: National Marine Fisheries Service (NMFS), National Oceanic and Atmospheric Administration (NOAA), Commerce.

ACTION: Notice of public meeting; public scoping hearing; public hearing.

SUMMARY: The Western Pacific Fishery Council's (Council) will hold its 73rd meeting of its Scientific and Statistical Committee (SSC) in Honolulu, HI. Also, public scoping hearings will be held on the intent to prepare an Environmental Impact Statement (EIS) for the Fishery Management Plan for the Precious Corals Fisheries of the Western Pacific Region (Precious Corals FMP).

The Council also announces its intention to develop amendments to the Fishery Management Plan for Bottomfish and Seamount Groundfish Fisheries of the Western Pacific Region (Bottomfish and Seamount Groundfish FMP), Fishery Management Plan for Crustacean Fisheries of the Western Pacific Region (Crustaceans FMP), and Fishery Management Plan for the Precious Corals FMP.

DATES: The SSC meeting will be held on February 22, 2000, from 9:00 a.m. to 5:00 p.m., and on February 23-24, 2000, from 8:30 a.m. to 5:00 p.m.

ADDRESSES: The 73rd SSC meeting will be held at the Council office conference room, 1164 Bishop St., Suite 1400, Honolulu, HI 96813.

Council address: Western Pacific Fishery Management Council, 1164 Bishop St., Suite 1400, Honolulu, HI 96813.

FOR FURTHER INFORMATION CONTACT: Kitty M. Simonds, Executive Director, Western Pacific Fishery Management Council, telephone: 808-522-8220.

SUPPLEMENTARY INFORMATION: The SSC will discuss and may make recommendations to the Council on the agenda items listed here. The order in which agenda items will be addressed is subject to change.

8:30 a.m. Tuesday, February 22, 2000

A. Electronic logbooks

B. Fisheries Data Coordinating Committee—Data Workshop 2000

C. Status of the stocks

1. Bottomfish fishery

2. Crustaceans fishery

a. Harvest Guideline

3. Precious corals fishery

4. Location of the catch

D. Draft Coral Reef Ecosystem Fishery Management Plan/Preliminary Draft Environmental Impact Statement (DEIS)

1. Review of Council's preferred alternative

a. Fishing permit and reporting

b. Restrictions of gear and methods

c. Marine Protected Areas

d. Framework provisions

e. Process for Plan Team (PT) coordination

2. Review of comments from region-wide public meetings

3. Federal initiatives

a. Congressional coral reef bills

b. U.S. Coral Reef Task Force action plan

4. Agency research plans for coral reefs

a. Federal (NMFS, Fish and Wildlife Service (FWS))

b. State/territories/Commonwealth of the Northern Mariana Islands (CNMI)

E. Northwestern Hawaiian Islands (NWHI)

1. Concerns regarding existing fisheries

a. Status of monk seals

b. Marine Mammal Commission

c. Monk Seal Recovery Team

d. ECOSIM (ecological simulation) model

e. Agencies (NMFS, Coral Reef Task Force, FWS, Department of Land and Natural Resources, U.S. Navy/U.S. Coast Guard)

2. Hawaii advisory body recommendations

a. Coral Reef Ecosystem PT

b. Ecosystem & Habitat Advisory Panel (AP)

c. Bottomfish PT/AP

d. Crustaceans AP/AP

e. Precious Corals PT/AP

3. Lawsuit to close lobster and bottomfish fisheries

8:30 a.m. Wednesday, February 23, 2000

F. Fishery Management Plan for the Pelagic Fisheries of the Western Pacific Region (Pelagics FMP) Issues

1. 3rd & 4th quarter 1999 Hawaii and American Samoa longline fishery report

2. American Samoa

a. Framework measure

b. Marine Conservation Plan

3. Shark management

a. Shark catch and disposition in 1999 in Hawaii longline fishery

b. Blue shark stock assessment

c. Report of cultural study of sharks and shark finning in the western Pacific Region

d. National Plan of Action—Sharks

e. Pelagics FMP amendment for shark management

f. Ocean Wildlife Campaign's concern for blue sharks

4. Seabird interactions in the Hawaii longline fishery

a. Status of amendment

b. Short-tailed albatross biological opinion

c. National Plan of Action—seabirds

5. Turtle management

a. Imposition of longline closed area north of Hawaii

b. Status of the lawsuit

6. Pacific Fishery Management Council's Highly Migratory Species Fishery Management Plan

7. Stock assessment of pelagic management unit species

8. International

a. Multilateral High Level Conference 6

b. International Pelagic Shark Workshop

c. Kiribati-Spain fishing agreement

d. National Plan of Action—fishing capacity

9. Recreational Fisheries Data Task Force

8:30 a.m. Thursday, February 24, 2000

G. Draft Coral Reef Ecosystem FMP/NWHI Fishery Concerns (conclude discussion and recommendations)

H. Precious corals fishery

1. Status of framework amendment

Review of Public Scoping Comments on EIS Alternatives

1. Bottomfish FMP

2. Crustaceans FMP

3. Precious corals FMP

4. Public scoping hearing on precious corals EIS alternatives

The EIS will discuss the impacts of potential precious coral harvest on the human environment and consider alternatives for a number of management measures. Alternatives will be assessed for impacts on essential fish habitat, target and non-target species of fish, discarded fish, marine mammals (Hawaiian monk seals and cetaceans), and other protected species present in the western Pacific ecosystem. In addition, the environmental consequences section will contain an analysis of socio-economic impacts of the fishery on the following groups of individuals: (1) Those who participate in harvesting the fishery resources and other living marine resources; (2) those who process and market the fish and fish products; (3) those who are involved in allied support industries; (4) those who consume fish products; (5) those who rely on living marine resources in the management area, either for subsistence needs or for recreational benefits; (6) those who benefit from non-consumptive uses of living marine resources; (7) those involved in managing and monitoring fisheries; and (8) fishing communities.

J. Addition of CNMI and Unincorporated Islands/Atolls to Bottomfish, Crustaceans, and Precious Corals FMPs

1. Review of status

2. Public scoping hearing

The Council intends to develop amendments to the Bottomfish FMP, Crustaceans FMP, and Precious Coral FMP which will consider a range of alternatives and impacts for management of bottomfish, crustacean and precious coral fisheries in the Pacific Remote Island Areas (PRIAs) and CNMI. The PRIAs are defined as Howland Island, Jarvis Island, Wake Island, Midway Island, Palmyra Atoll, Kingman Reef, and Johnston Atoll.

The Council is evaluating the need to amend the bottomfish, crustacean and precious corals FMPs to better achieve the management objectives of these FMPs. Currently, no Federal regulations are in place to manage the bottomfish, crustacean and precious coral fishery resources in the EEZ waters surrounding the CNMI. There are also no Federal regulations for the bottomfish and crustacean fisheries for the EEZ waters surrounding the Pacific Remote Island Areas (PRIAs). The amendments will consider a wide range of management alternatives to address data shortfalls and possible impacts from the bottomfish, crustacean, and precious coral fisheries in the PRIAs and the CNMI. The Council seeks to solicit public comment and input on a wide range of management alternatives including, but not limited to, the following: Federal permit and data reporting requirements; limited access; vessel monitoring systems; observer program; closed season; closed areas; gear restrictions; size limits; catch quotas; and prohibitions on the use of destructive fishing techniques, including the use of explosives, poisons, bottomset gill-nets, bottom trawls, and tangle nets.

K. Limited Entry Permits for Community Demonstration Projects

L. Other business

Although non-emergency issues not contained in this agenda may come before the SSC for discussion, those issues may not be the subject of formal SSC action during this meeting. SSC action will be restricted to those issues specifically listed in this document and any issue arising after publication of this document that requires emergency action under section 305(c) of the Magnuson-Stevens Fishery Conservation and Management Act, provided the public has been notified of the Council's intent to take final action to address the emergency.

Special Accommodations

This meeting is physically accessible to people with disabilities. Requests for sign language interpretation or other auxiliary aids should be directed to Kitty M. Simonds, 808-522-8220 (voice) or 808-522-8226 (fax), at least 5 days prior to the meeting date.

Authority: 1801 et seq.

Dated: February 8, 2000.
Bruce C. Morehead,
Acting Director, Office of Sustainable Fisheries, National Marine Fisheries Service.

[FR Doc. 00-3282 Filed 2-10-00; 8:45 am]

BILLING CODE 3510-22-F